DEPARTMENT OF THE INTERIOR

Bureau of Land Management

[CO-600-03-1010-BN-241A]

Notice of Public Meetings, Southwest Colorado and Northwest Colorado Resource Advisory Council Meetings

AGENCY: Bureau of Land Management.

ACTION: Notice of Public Meetings.

SUMMARY: In accordance with the Federal Land Policy and Management Act (FLPMA) and the Federal Advisory Committee Act of 1972 (FACA), the U.S. Department of the Interior, Bureau of Land Management (BLM), Southwest Colorado Resource Advisory Council (RAC) and Northwest Colorado RAC will meet as indicated below.

DATES: The Southwest Colorado RAC meeting will be held November 22, 2002 at the Bill Heddles Recreation Center located at 180 Gunnison River Drive in Delta, Colorado.

The Northwest Colorado RAC meeting will also be held November 22, 2002 at the Bill Heddles Recreation Center located at 180 Gunnison River Drive in Delta, Colorado.

Both the Southwest and Northwest Colorado RAC meetings will begin at 9 a.m. and adjourn at approximately 4 p.m. Public comment periods at the meetings will be in the morning at 9:30 a.m and in the afternoon, to start no later than 3 p.m.

FOR FURTHER INFORMATION CONTACT: Larry J. Porter, RAC Coordinator, Bureau of Land Management, 2815 H Road, Grand Junction, Colorado 81506; Telephone (970) 244-3012.

SUPPLEMENTARY INFORMATION: The Southwest and Northwest Colorado RACs advise the Secretary of the Interior, through the Bureau of Land Management, on a variety of planning and management issues associated with public land management in Colorado.

Purpose of the Southwest Colorado RAC meeting is to consider several resource management related topics including County Partnership Restoration Project; Coal Bed Methane Development; Phoenix RAC Conference Report; RAC Goals; and Cooperative Management Opportunities.

Purpose of the Northwest Colorado RAC meeting is to consider several resource management related topics including Wildlife, Cultural, Weeds, and Wild Horse Management Plan Subcommittee reports; Travel Management Update; RAC's Functioning; and Moffat County Pilot Proposal.

These meetings are open to the public. The public may present written comments to the RACs. Each formal RAC meeting will also have time, as identified above, allocated for hearing public comments. Depending on the number of persons wishing to comment and time available, the time for individual oral comments may be limited. Individuals planning to attend the meetings who need special assistance should contact the RAC Coordinator listed above.

Dated: October 7, 2002.
Dave Atkins,
Acting Western Slope Center Manager.

[FR Doc. 02-26050 Filed 10-11-02; 8:45 am]

BILLING CODE 4310-JB-P